DEPARTMENT OF AGRICULTURE

Forest Service

USDA-Forest Service/Spalding Land Exchange and Special Use Permit Environmental Impact Statement and Lassen National Forest Plan Amendment, Lassen National Forest, Lassen County, CA

AGENCY: Forest Service, USDA.

ACTION: Notice of intent to prepare an environmental impact statement.

SUMMARY: The U.S. Department of Agriculture, Forest Service, Lassen National Forest, is issuing this notice to advise the public that an environmental impact statement (EIS) will be prepared for a proposed land exchange between the Spalding Community Services District and the Lassen National Forest, Lassen County, CA. Approval would include the transfer of approximately 57.21 acres of Federal lands encompassing one 52.50 acre parcel and one 4.71 acre parcel, and also includes a non-significant minor amendment to the “Lassen National Forest Land and Resource Management Plan” (LRMP), and authorization of a special use of National Forest System Lands for water and sewer pipeline corridors, and an access road totaling approximately 2.7 acres. The Forest Service invites written comments and suggestions on the scope of the environmental analysis for the EIS from Federal, State, and local agencies, federally recognized Tribes, and other individuals or organizations that may be interested in or affected by the proposed action.

DATES: Submit comments on or before January 27, 2003.

The draft EIS is expected to be filed with the Environmental Protection Agency (EPA) and available for public review in March 3, 2003. The final EIS is scheduled for completion in August 2003.

ADDRESSES: You may request to be placed on the project mailing list or you may direct questions, comments and suggestions to the Responsible Official: Edward C. Cole, Forest Supervisor, Lassen National Forest, 2550 Riverside Drive, Susanville, CA 96130.

FOR FURTHER INFORMATION CONTACT: Lois Charlton, Forest Lands Officer, Lassen National Forest 2550 Riverside Drive, Susanville, CA 96130. Telephone (530) 257-2151.

SUPPLEMENTARY INFORMATION: The Forest Service (lead agency) is proposing a value for value exchange of federal land with the Spalding Community Services District (SCSD) for third party private lands. If the values are unequal, either party may equalize the values by making a cash payment not the exceed 25 percent of the value of the lands transferred out of Federal ownership. The Forest Service is initiating this action in response to a request by SCSD to acquire lands to accommodate construction and operation of a wastewater collection and treatment facility. The federal lands are from the Lassen National Forest (57.21 acres). The Lands that the SCSD would potentially exchange include up to four parcels listed in order of priority for acquisition (Lassen County Assessor Parcel Numbers 077-303-21, 075-120-14, 075-120-15, 075-130-11 and 077-303-21). Acquisition of these parcels would improve access to National Forest System Lands, eliminate one or more in-holdings, and add wetland habitat to the Lassen National Forest. Approval of the land exchange would also include a non-significant minor amendment to the Lassen LRMP, and authorization of a special use of National Forest System Lands for water and sewer pipeline corridors and an access road totaling approximately 2.7 acres.

Environmental Analysis of alternative locations and designs for the facility was conducted in the “Spalding Community Services District Wastewater Collection and Treatment Facilities Final Environmental Impact Report” (SCSD FEIR) dated April 17, 2000. The SCSD FEIR will be incorporated by reference into the EIS for the land transfer. Lands acquired in the exchange by the Forest Service will be managed in accordance with the Lassen National Forest LRMP (1993).

The Spalding Community Services District conducted extensive public participation in development of the SCSD EIR (ref. SCSD FEIR pages 1-2, 1-3, 1-8, 1-9). Comments received in response to the Draft SCSD EIR (SCSD FEIR page 1-4—1-8) were responded to in the Final EIR and will not be identified in the EIS as new issues. The Lassen National Forest listed the land exchange in the quarterly Schedule of Proposed Actions (SOPA) starting in March of 1999. An initial proposed actions was presented to the Lassen County Board of Supervisors at two regularly scheduled meetings (2/13/01 and 2/20/01). The project was presented at a regularly scheduled meeting of the Lassen County Fish and Game Commission (2/15/01). A direct mailing regarding this proposed action was sent to a list of persons and organizations involved in the SCSD EIR, involved government agencies, or those who had requested notification of projects on the Eagle Lake Ranger District involving recreation, special uses, roads, or other proposed actions. Based on analysis completed to date, it was determined that an EIS is needed. Information and data previously gathered will be carried forward in this EIS. Letters describing the proposed action and soliciting comments will be sent to appropriate Federal, State and local agencies, all Spalding community landowners and to organizations and citizens who express interest in this proposal.

Preliminary issues identified with this proposal include concerns over proposed mitigation measures designed to protect the Federally Threatened bald eagle. These issues include decreased access for sportsman caused by closure of one non-system road (Fred's Road) and a seasonal road closure of a portion of the Osprey Management Area boundary road (32N27Y), and a potential increase of use on the existing network of nonsystem roads between the Spalding Tract and the Pine Creek Estuary.

At this time the alternatives under consideration include: no action and exchanging lands as identified in the proposed action. The EIS will analyze the direct, indirect, and cumulative environmental effects of the alternatives. Past, present, and projected activities on both private and NFS lands will be considered. The EIS will disclose the analysis of site-specific mitigation.

Public participation is important. Comments from the public will continue to be used to:

—Identify, confirm or redefine potential issues.

—Identify, confirm or redefine major issues to be analyzed in depth.

—Eliminate minor issues or those, which have been covered by a previous environmental analysis, such as the Lassen National Forest LRMP, and the SCSD FEIR.

—Identify alternatives to the proposed action.

—Identify, confirm or redefine potential environmental effects of the proposed action and alternatives (i.e. direct, indirect, and cumulative effects).

—Determine potential cooperating agencies and task assignments.

To ensure that the full range of issues related to the proposed action is addressed and all significant issues are identified, comments and suggestions are invited from all interested parties.

The comment period on the draft EIS will be 45 days from the date the EPA publishes the notice of availability in the Federal Register. At that time, copies of the draft EIS will be distributed to interested and affected agencies, organizations, tribes, and members of the public for their review and comment. It is important that those interested in the management of the Lassen National Forest participate at that time.

Comments received in response to this solicitation, including names and addresses of those who comment, will be considered part of the public record on this proposed action and will be available for public inspection. Comments submitted anonymously will be accepted and considered. Additionally, pursuant to 7 CFR 1.27(d), any person may request the agency to withhold a submission from the public record by showing how the Freedom of Information (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address.

The Forest Service believes, at this early state, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 US. 519, 553 (1978). Also, environmental objections that could be raised at the draft environmental impact statement stage but are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period so that substantive comments and objections are made available to the Forest Service at a time when it can meaningful consider them and respond to them in the final environmental impact statement. To assist the Forest Service in identifying and considering issues and concerns on the proposed action, comments on the draft environmental impact statement should be as specific as possible. It is also helpful if comments refer to specific pages or chapters of the draft statement. Comments may also address the adequency of the draft environmental impact statement or the merits of the alternatives formulated and discussed in the statement. Reviewers may wish to refer to the Council on Environmental Quality Regulations for implementing the procedural provisions of the National Environmental Policy Act at 40 CFR 1503.3 in addressing these points.

Dated: December 2, 2002.
Edward C. Cole,
Forest Supervisor, Lassen National Forest.

[FR Doc. 02-31194 Filed 12-10-02; 8:45 am]

BILLING CODE 3410-11-M